DEPARTMENT OF COMMERCE

National Oceanic and Atmospheric Administration

Return Link Service Authorization in the United States Search and Rescue Region

AGENCY: National Environmental Satellite, Data, and Information Service (NESDIS), National Oceanic and Atmospheric Administration (NOAA), Commerce.

ACTION: Notice and request for public comment.

SUMMARY: The U.S. Search and Rescue Satellite Aided Tracking (SARSAT) Program, which is managed by NOAA and assisted by the National Aeronautics and Space Administration, the U.S. Air Force, and the U.S. Coast Guard, requests input from all interested persons on the U.S. authorization of Return Link Service (RLS) acknowledgment Type 1 capable Cospas-Sarsat 406 MHz distress beacons. Through this Request for Information (RFI), the SARSAT Program seeks the public's views on the inclusion of this optional feature on U.S. country-coded beacons.

DATES: Comments must be received by April 30, 2021.

ADDRESSES: Responses should be submitted via email to sarsat.rls.rfi@noaa.gov. Include “Public Comment on type approval of RLS beacons” in the subject line of the message. All personal identifying information (e.g., name, address, etc.), confidential business information, or otherwise sensitive information submitted voluntarily by the sender will be publicly accessible. NOAA will accept anonymous comments. Clearly indicate which question or subject, if applicable, submitted comments pertain to. All submissions must be in English. Please note that the U.S. Government will not pay for response preparation, or for the use of any information contained in the response.

Instructions: Respondents need not reply to any or all of the questions listed. Email attachments will be accepted in plain text, Microsoft Word, or Adobe PDF formats only. Each individual or institution is requested to submit only one response. The SARSAT Program may post responses to this RFI, without change, on a Federal website. NOAA, therefore, requests that no business proprietary information, copyrighted information, or personally identifiable information be submitted in response to this RFI.

FOR FURTHER INFORMATION CONTACT: SARSAT Program Analyst, Mr. Allan Knox, NOAA, allan.knox@noaa.gov, 301-817-4144.

SUPPLEMENTARY INFORMATION:

Background

The RLS is being provided via the Galileo Global Navigation Satellite System and is designed to provide the beacon user in distress an acknowledgment message informing them that the alert has been detected and located by the Cospas-Sarsat System.

The SARSAT Program has commenced an effort to understand the benefits and associated risks of RLS Type 1 equipped beacons and is soliciting the public through this RFI to obtain input from a wider range of stakeholders, including academia, private industry, beacon users and other relevant organizations and institutions. The public input provided in response to this RFI will help inform the SARSAT Program as it evaluates the authorization of RLS Type 1 equipped beacons within the United States.

In depth information on RLS Type 1 equipped beacons can be found at: https://www.gsc-europa.eu/sites/default/files/sites/all/files/Galileo-SAR-SDD.pdf.

Additional information on RLS-enabled beacons may be viewed at: https://cospas-sarsat.int/en/beacon-ownership/rls-enabled-beacon-purchase.

Questions To Inform U.S. SARSAT Program Regarding Authorization of Type 1 RLS Cospas-Sarsat Distress Beacons

Please consider the following questions of interest to the SARSAT Program when responding:

1. Under nominal conditions, the RLS has an inherent period of time between beacon activation and the acknowledgement being received and displayed to the person in distress. This period of time should be within 30 minutes. Is this acceptable? If not, what is an acceptable time?

2. What is the best method to ensure the user understands that there is a period of time before the acknowledgement message is received? Please consider that the user's first interaction with an RLS capable beacon could be an emergency situation where only the beacon is available (no user manual).

3. RLS only indicates that the distress signal has been received, not that rescue forces have been deployed. Therefore, the acknowledgement message is not an indication of when rescue forces may arrive on scene. How should the beacon user be provided this information so that they understand what the RLS signal means? Please consider that the user's first interaction with an RLS capable beacon could be an emergency situation where only the beacon is available (no user manual).

4. There are several RLS related message indications that can be displayed to the beacon user; RLS signal sent from beacon, awaiting RLS signal return, RLS response received, RLS signal not received, etc. Which signals should be displayed to the user and how should they be displayed? Please consider the user's first interaction with an RLS capable beacon could be an emergency situation where only the beacon is available (no user manual).

5. Are there any other features you believe would be advantageous to add to 406 MHz emergency beacons?

6. Are there any other comments you would like the U.S. SARSAT Program to consider?

Authority: 33 U.S.C. 883(d) and (e).

Dated: February 3, 2021.
Mark W. Turner,
SARSAT Program Manager.

[FR Doc. 2021-02509 Filed 2-5-21; 8:45 am]

BILLING CODE 3510-HR-P